DEPARTMENT OF HOMELAND SECURITY

Federal Emergency Management Agency

44 CFR Part 67

[Docket No. FEMA-D-7574]

Proposed Flood Elevation Determinations

AGENCY: Federal Emergency Management Agency (FEMA), Emergency Preparedness and Response Directorate, Department of Homeland Security.

ACTION: Proposed rule.

SUMMARY: Technical information or comments are requested on the proposed Base (1% annual chance) Flood Elevations and proposed BFE modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the following table.

FOR FURTHER INFORMATION CONTACT: Doug Bellomo, P.E., Hazard Identification Section, Emergency Preparedness and Response Directorate, FEMA, 500 C Street SW., Washington, DC 20472, (202) 646-2903.

SUPPLEMENTARY INFORMATION: FEMA (FEMA or Agency) proposes to make determinations of BFEs and modified BFEs for each community listed below, in accordance with Section 110 of the Flood Disaster Protection Act of 1973, 42 U.S.C. 4104, and 44 CFR 67.4(a).

These proposed base flood and modified BFEs, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director of the Emergency Preparedness and Response Directorate certifies that this proposed rule is exempt from the requirements of the Regulatory Flexibility Act because proposed or modified BFEs are required by the Flood Disaster Protection Act of 1973, 42 U.S.C. 4105, and are required to establish and maintain community eligibility in the NFIP. As a result, a regulatory flexibility analysis has not been prepared.

Regulatory Classification. This proposed rule is not a significant regulatory action under the criteria of section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of section 2(b)(2) of Executive Order 12778.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location | #Depth in feet above ground * Elevation in feet (NGVD) • Elevation in feet (NAVD): Existing | #Depth in feet above ground * Elevation in feet (NGVD) • Elevation in feet (NAVD): Modified | Communities affected
NORTH CAROLINA
Columbus County
Beaverdam Swamp | At the confluence with Monte Swamp | None | •48 | Columbus County (Unincorporated Areas).
| Approximately 0.5 mile upstream of Chadbourn Clarendon Road | None | •95
Big Branch into Beaverdam Swamp | At the confluence with Beaverdam Swamp | None | •81 | Columbus County (Unincorporated Areas).
| Approximately 900 feet downstream of Railroad | None | •104
Big Branch into Monte Swamp | At the confluence with Monte Swamp | None | •38 | Columbus County (Unincorporated Areas).
| Approximately 1.4 miles upstream of MM Ray Road | None | •47
Big Branch into Monte Swamp Tributary | At the confluence with Big Branch into Monte Swamp | None | •44 | Columbus County (Unincorporated Areas).
| Approximately 0.8 mile upstream of the confluence with Big Branch into Monte Swamp | None | •47
Big Branch into Western Prong Creek | At the confluence with Western Prong Creek | None | •74 | Columbus County (Unincorporated Areas).
| Approximately 1,700 feet upstream of Greens Mill Road | None | •90
Big Creek into Lake Waccamaw | At the confluence with Lake Waccamaw | None | •43 | Columbus County (Unincorporated Areas), Town of Lake Waccamaw
| Approximately 860 feet upstream of Old Lake Road | None | •56
Big Creek into Marlow Branch | At the upstream side of N.C. 905 | None | •27 | Columbus County (Unincorporated Areas).
| Approximately 0.5 mile upstream of Big Avenue | None | •39
Big Creek into Marlow Branch Tributary | At the confluence with Big Creek into Marlow Branch | None | •28 | Columbus County (Unincorporated Areas).
| Approximately 1.0 mile upstream of the confluence with Big Creek | None | •35
Big Cypress Swamp | At the confluence with Seven Creeks | None | •30 | Columbus County (Unincorporated Areas).
| Approximately 0.9 mile upstream of Ramsey Ford Road | None | •42
Big Freshwater Branch | At the confluence with Gapway Swamp | None | •80 | Columbus County (Unincorporated Areas).
| Approximately 1.0 mile upstream of Peanut Worely Road | None | •104
Big Pond Branch | At the confluence with Beaverdam Swamp | None | •60 | Columbus County (Unincorporated Areas).
| Approximately 500 feet upstream of Mary B. White Road | None | •85
Black Creek | At the confluence with Grissett Swamp | None | •80 | Columbus County (Unincorporated Areas), Town of Tabor City.
| Approximately 1.0 mile upstream of South Joe Brown Highway | None | •99
Boggy Branch | At the confluence with Beaverdam Swamp and Monte Swamp | None | •48 | Columbus County (Unincorporated Areas).
| Approximately 2.6 miles upstream of Old Tram Road | None | •56
Boggy Hill Branch | At the confluence with Grissett Swamp | None | •80 | Columbus County (Unincorporated Areas).
| Approximately 0.7 mile upstream of Old Stake Road | None | •90
Bogue Swamp | Approximately 1.0 mile downstream of the confluence of Alligator Branch | •41 | •42 | Columbus County (Unincorporated Areas).
| Approximately 0.8 mile upstream of Unnamed Road | None | •64
Brier Creek | At the County boundary | None | •85 | Columbus County (Unincorporated Areas).
| Approximately 1.1 miles upstream of Haynes Lennon Highway | None | •101
Browders Branch | At the confluence with Western Prong Creek | None | •70 | Columbus County (Unincorporated Areas).
| Approximately 400 feet upstream of Jordan Road | None | •82
Brown Marsh Swamp | At the upstream side of Red Hill Road | None | •70 | Columbus County (Unincorporated Areas).
| At the confluence of Slades Swamp | None | •70
Brown Mill Branch | At the confluence with Dunn Swamp | None | •77 | Columbus County (Unincorporated Areas).
| Approximately 1.8 miles upstream of Williamsons Crossroad | None | •95
Butler Branch | At the confluence with Western Prong Creek | None | • 64 | Columbus County (Unincorporated Areas).
| At the downstream side of James B. White Highway | None | • 71
Camp Swamp | Approximately 920 feet downstream of the State boundary | None | • 30 | Columbus County (Unincorporated Areas).
| Approximately 1,200 feet downstream of Dulah Road | None | • 44
Camp Swamp | Approximately 960 feet downstream of the State boundary | None | • 32 | Columbus County (Unincorporated Areas).
Tributary 1 | Approximately 1.7 miles upstream of Dothan Road | None | • 41
Camp Swamp | At the confluence with Camp Swamp | None | • 32 | Columbus County (Unincorporated Areas).
Tributary 2 | At Dothan Road | None | • 37
Cedar Branch into Soules Swamp | At the confluence with Soules Swamp | None | • 68 | Columbus County (Unincorporated Areas)
| Approximately 250 feet upstream of Chadbourn Clarendon Road | None | • 89
Cedar Branch into Beaverdam Swamp | At the confluence with Beaverdam Swamp | None | • 67 | Columbus County (Unincorporated Areas).
| Approximately 200 feet upstream of Peakcock Road | None | • 83
Cow Branch | At the downstream side of Williamsons Crossroad | •74 | •75 | Columbus County (Unincorporated Areas).
| Approximately 0.7 mile upstream of Strawberry Boulevard | None | • 98
Cowpen Branch | At the confluence with Bogue Swamp | None | • 51 | Columbus County (Unincorporated Areas).
| Approximately 700 feet upstream of Hallsboro Road | None | • 57
Creek Branch | At the confluence with Slap Swamp | None | • 49 | Columbus County (Unincorporated Areas), Town of Lake Waccamaw.
| Approximately 0.4 mile upstream of East Andrew Jackson Highway | None | • 56
Crooked Run Branch | At the confluence with Gapway Swamp | None | • 77 | Columbus County (Unincorporated Areas).
| At the State boundary | None | • 89
Curries Branch | At the confluence with Butler Branch | None | • 64 | Columbus County (Unincorporated Areas).
| Approximately 1.3 miles upstream of James B. White Highway | None | • 85
Deep Branch | At the State boundary | None | • 27 | Columbus County (Unincorporated Areas).
| Approximately 0.5 mile downstream of Savannah Road | None | • 40
Dunn Swamp | At the confluence with Porter Swamp | None | • 77 | Columbus County (Unincorporated Areas).
| Approximately 0.9 mile upstream of Bird Cage Road | None | • 93
Dunn Swamp | At the confluence with Dunn Swamp | None | • 84 | Columbus County (Unincorporated Areas)
Tributary 1 | Approximately 1.3 miles upstream of the confluence with Dunn Swamp | None | • 90
Dunn Swamp | At the confluence with Dunn Swamp | None | • 86 | Columbus County (Unincorporated Areas).
Tributary 2 | Approximately 200 feet upstream of Braswell Road | None | • 95
Dunn Swamp | At the confluence with Dunn Swamp | None | • 87 | Columbus County (Unincorporated Areas).
Tributary 3 | Approximately 400 feet upstream of Strawberry Boulevard | None | • 95
Tributary to Dunn | At the confluence with Dunn | None | • 92 | Columbus County (Unincorporated Areas).
Swamp Tributary 2 | Approximately 650 feet upstream of the confluence with Dunn Swamp Tributary 2 | None | • 92
Fivemile Branch | At the confluence with Soules Swamp | None | • 67 | Columbus County (Unincorporated Areas).
| Approximately 400 feet downstream of Hubert White Road | None | • 95
Friar Swamp | At the confluence with Big Creek | None | • 49 | Columbus County (Unincorporated Areas).
| Approximately 1.4 miles upstream of Old Lake Road | None | • 54
Gapway Swamp | Approximately 300 feet downstream of Andrew Jackson Highway | None | • 62 | Columbus County (Unincorporated Areas).
| Approximately 1.3 miles upstream of Sidney Cherry Grove Road | None | • 102
Green Branch | At the confluence with Dunn Swamp | None | • 80 | Columbus County (Unincorporated Areas).
| Approximately 1.1 miles upstream of Brasswell Road | None | • 94
Greenes Branch | At the confluence with Western Prong Creek | None | • 75 | Columbus County (Unincorporated Areas).
| Approximately 0.6 mile upstream of Silver Spoon Road | None | • 91
Griffith Branch | At the confluence with White Marsh | None | • 54 | Columbus County (Unincorporated Areas), City of Whiteville.
| Approximately 0.4 mile upstream of confluence with White Marsh | • 55 | • 56
Grissett Swamp | At the confluence with Seven Creeks | None | • 30 | Columbus County (Unincorporated Areas), Town of Tabor City.
| Approximately 0.8 mile upstream of Emerson Church Road | None | • 96
Grissett Swamp Tributary | At the confluence with Grissett Swamp | None | • 81 | Columbus County (Unincorporated Areas).
| Approximately 1.2 miles upstream of Emerson Church Road | None | • 102
Gum Swamp | At the confluence with Monte Swamp | None | •44 | Columbus County (Unincorporated Areas).
| Approximately 0.5 mile upstream of Old Stake Road | None | •101
Honey Island Swamp | At the confluence with Juniper Creek | None | •43 | Columbus County (Unincorporated Areas).
| Approximately 0.3 mile downstream of Green Swamp Road South | None | •54 |
Horsepen Branch | At the Columbus/Robeson County boundary | None | •89 | Columbus County (Unincorporated Areas).
| At the Columbus/Bladen County boundary | None | •89
Huggins Creek | Approximately 70 feet downstream of the State boundary | None | •87 | Columbus County downstream of (Unincorporated Areas)
| Approximately 1,700 feet upstream of Swamp Fox Highway East | None | •98
Ironhill Branch | At the confluence with Toms Fork | None | •48 | Columbus County (Unincorporated Areas).
| Approximately 0.4 mile upstream of Reynolds Road | None | •73
Ironhill Branch Tributary | At the confluence with Ironhill Branch | None | •65 | Columbus County (Unincorporated Areas).
| Approximately 0.6 mile upstream of Kenny Jordan Road | None | •73
Jockey Branch | At the confluence with Bogue Swamp | None | •46 | Columbus County (Unincorporated Areas).
| Approximately 0.6 mile upstream of South Hallsboro Road | None | •53
Juniper Creek into Soules Swamp | At the confluence with Soules Swamp | None | •73 | Columbus County (Unincorporated Areas).
| At the downstream side of Interstate 74/76 | None | •91
Juniper Creek into Waccamaw River | Approximately 2,300 feet upstream of the confluence with Waccamaw River | None | •35 | Columbus County (Unincorporated Areas).
| Approximately 1,350 feet upstream of the confluence of Leonard Creek | None | •43
Juniper Swamp | At the confluence with Grissett Swamp | None | •38 | Columbus County (Unincorporated Areas).
| At the State boundary | None | •60
Lake Waccamaw | Entire shoreline within community | None | •43 | Columbus County (Unincorporated Areas).
Lebanon Branch | At the confluence with Beaverdam Swamp | None | •57 | Columbus County (Unincorporated Areas).
| Approximately 0.4 mile upstream of James B. White Highway | None | •76
Little Freshwater Branch | At the confluence with Big Freshwater Branch | None | •86 | Columbus County (Unincorporated Areas).
| Approximately 0.9 mile upstream of the confluence with Big Freshwater Branch | None | •95
Long Branch into Brown Mill Branch | At the confluence with Brown Mill Branch | None | •78 | Columbus County (Unincorporated Areas).
| Approximately 1,030 feet upstream of the confluence with Brown Mill Branch | None | •79
Long Branch into Gapway Swamp | At the confluence with Gapway Swamp | None | •79 | Columbus County (Unincorporated Areas).
| Approximately 750 feet upstream of Coleman Cemetery Road | None | •94
Main Line Canal | At the confluence with Big Creek | None | •43 | Columbus County (Unincorporated Areas), Town of Bolton.
| At South Green Swamp Road | None | •48
Marlow Branch | At the upstream side of State Road 905 | None | •27 | Columbus County (Unincorporated Areas).
| Approximately 1,450 feet upstream of Seven Creeks Parkway | None | •30
Mill Branch Swamp | At the confluence with Gum Swamp | None | •59 | Columbus County (Unincorporated Areas).
| At the downstream side of South Joe Brown Highway | None | •97
Mollie Swamp | At the confluence with Monte Swamp | None | •42 | Columbus County (Unincorporated Areas).
| Approximately 0.5 mile upstream of Edward Road | None | •50
Mollies Branch | At the confluence with Soules Swamp | None | •57 | Columbus County (Unincorporated Areas), City of Whiteville.
| Approximately 500 feet upstream of New Britton Highway | None | •69
Monte Swamp | At the confluence with Grissett Swamp | None | •37 | Columbus County (Unincorporated Areas).
| At the confluence of Beaverdam Swamp and Boggy Branch | None | •48
Palmetto Branch | At the confluence with Bogue Swamp | None | •45 | Columbus County (Unincorporated Areas).
| Approximately 0.4 mile upstream of South Hallsboro Road | None | •51
Pine Log Branch | At the confluence with Soules Swamp | None | •58 | Columbus County (Unincorporated Areas), City of Whiteville.
| Approximately 2.6 miles upstream of Union Valley Road | None | •94
Porter Swamp | At the upstream side of Homer Nance Road | None | •74 | Columbus County (Unincorporated Areas).
| Approximately 0.7 mile upstream of the confluence of Water Branch | None | •92
Red Hill Swamp | At the confluence with Western Prong Creek and White Marsh | None | •63 | Columbus County (Unincorporated Areas).
| At the upstream side of Red Hill Road | None | •70
Rattlesnake Creek | At the confluence with Spring Branch | None | •91 | Columbus County (Unincorporated Areas).
| Approximately 500 feet downstream of State Road 242 | None | •106
Ricefield Branch | At the confluence with Big Creek | None | •51 | Columbus County (Unincorporated Areas).
| Approximately 200 feet downstream of Old Lake Road | None | •63
Ricefield Branch Tributary | At the confluence with Ricefield Branch | None | •54 | Columbus County (Unincorporated Areas).
| Approximately 1.5 miles upstream of the confluence with Ricefield Branch | None | •59
Richlands Branch | At the confluence with Slap Swamp | None | •61 | Columbus County (Unincorporated Areas).
| At the Columbus/Bladen County boundary | None | •73
Saespan Branch | At the confluence with Friar Swamp | None | •50 | Columbus County (Unincorporated Areas).
| At the Columbus/Bladen County boundary | None | •59
Sand Pit Branch | At the confluence with Simmons Bay Creek | •34 | •33 | Columbus County (Unincorporated Areas).
| Approximately 1.1 mile upstream of Happy Home Road | None | •41
Seven Creeks | At the upstream side of Seven Creeks Highway | None | •29 | Columbus County (Unincorporated Areas).
| At the confluence of Big Cypress Swamp & Grissett Swamp | None | •30
Simmons Creek | At the confluence with Grissett Swamp | None | •80 | Columbus County (Unincorporated Areas), Town of Tabor City.
| Approximately 250 feet upstream of Willoughby Road | None | •91
Skeebo Branch | At the confluence with Grissett Swamp | None | •70 | Columbus County (Unincorporated Areas), Town of Tabor City.
| Approximately 0.4 mile upstream of Will Inman Road | None | •86
Slap Branch | At the confluence with Slap Swamp | None | •76 | Columbus County (Unincorporated Areas).
| Approximately 0.4 mile upstream of the confluence of Reedy Branch | None | •87
Slap Swamp | At the confluence with Big Creek into Marlow Branch | None | •49 | Columbus County (Unincorporated Areas).
| Approximately 200 feet upstream of Old Northeast Road | None | •76
Slap Swamp Tributary | At the confluence with Slap Swamp | None | •51 | Columbus County (Unincorporated Areas).
| Approximately 0.8 mile upstream of the confluence with Slap Swamp | None | •53
Slap Swamp Tributary 2 | At the confluence with Slap Swamp | None | •57 | Columbus County (Unincorporated Areas).
| Approximately 1,990 feet upstream of Chauncey Town Road | None | •62
Spring Branch into Bogue Swamp | At the confluence with Bogue Swamp | None | •57 | Columbus County (Unincorporated Areas).
| Approximately 1.3 miles upstream of the confluence with Bogue Swamp | None | •69
Soules Swamp | At the confluence with White Marsh Swamp | None | •51 | Columbus County (Unincorporated Areas), Town of Chadbourn, City of Whiteville.
| Approximately 650 feet upstream of Railroad Avenue | None | •90
Spring Branch into Rattlesnake Creek | At the confluence with Horsepen Branch | None | •89 | Columbus County (Unincorporated Areas).
| At the confluence of Rattlesnake Creek | None | •91
Sweet Water Branch | At the confluence with Beaverdam Swamp | None | •67 | Columbus County (Unicorporated areas).
| Approximately 400 feet upstream of Sellers Town Road | None | •73
Toms Fork | At the confluence with Grissett Swamp | None | •45 | Columbus County (Unincorporated Areas).
| Approximately 200 feet upstream of the State boundry | None | •70
Toms Fork Tributary | At the confluence with Toms Fork | None | •66 | Columbus County (Unincorporated Areas).
| Approximately 0.4 mile upstream of Cox Town Road | None | •80
Tributary to Toms Fork Tributary | At the confluence with Toms Fork Tributary | None | •76 | Columbus County (Unincorporated Areas).
| At the State boundary | None | •85
Town Canal | At the confluence with Grissett Swamp | None | •70 | Columbus County (Unincorporated Areas), Town of Tabor City.
| Approximately 400 feeet upstream of Elizabeth Street | None | •81
Uncles Branch | At the confluence with Porter Swamp | None | •80 | Columbus County (Unincorporated Areas), Town of Cerro Gordo.
| Approximately 0.5 mile upstream of Charles Ford Road | None | •94
Ward Branch into Simmons Bay Creek | At the confluence with Simmons Bay Creek | •34 | •33 | Columbus County (Unincorporated Areas).
| Approximately 1,750 feet upstream of Manly Smith Road | None | •43
Ward Branch into Slap Swamp | At the confluence with Slap Swamp | None | •76 | Columbus County (Unincorporated Areas).
| Approximately 200 feet upstream of Pocosin Road | None | •84
Welch Creek | At the confluence with White Marsh | None | •61 | Columbus County (Unincorporated Areas).
| Approximately 0.8 mile upstream of Burneys Mill Road | None | •83
Western Prong Creek | At the confluence with White Marsh | None | •63 | Columbus County (Unincorporated Areas).
| Approximately 0.6 mile upstream of Red Store Road | None | •93
Whiskey Swamp | At the confluence with Juniper Swamp | None | •40 | Columbus County (Unincorporated Areas).
| Just downstream of Dothan Road | None | •63
White Oak Branch | At the confluence with Bogue Swamp | None | •55 | Columbus County (Unincorporated Areas).
| Approximately 1.3 miles upstream of the confluence with Bogue Swamp | None | •61
White Marsh | Approximately 1.6 miles downstream of South Hallsboro Road | None | •42 | Columbus County (Unincorporated Areas).
| At the confluence of Western Prong Creek and Red Hill Swamp | None | •63
Williams Branch | At the confluence with Gum Swamp | None | •53 | Columbus County (Unincorporated Areas).
| Approximately 0.5 mile upstream of John Ward Road | None | •67
Wolf Trap Branch | At the confluence with Porter Swamp | None | •74 | Columbus County (Unincorporated Areas).
| Approximately 825 feet upstream of SW Andrew Jackson Highway | None | •90
Town of Bolton
Maps available for inspection at the Bolton Town Hall, 221 9th Street, Bolton, North Carolina.
Send Comments to The Honorable Frank Wilson, Mayor of the Town of Bolton, P.O. Box 327, Bolton, North Carolina, 28423.
Town of Cerro Gordo
Maps available for inspection at the Cerro Gordo Town Hall, 36 West Railroad Street, Cerro Gordo, North Carolina.
Send comments to The Honorable Rodney Hammond, Mayor of the Town of Cerro Gordo, P.O. Box 160, Cerro Gordo, North Carolina, 28430.
Town of Chadbourn
Maps available for inspection at the Office of the Town Manager, 208 East First Street, Chadbourn, North Carolina.
Send comments to The Honorable Leo Mercer, Mayor of the Town of Chadbourn, 208 East First Street, Chadbourn, North Carolina, 28431.
Columbus County (Unincorporated Areas)
Maps available for inspection at the Columbus County Tax Office, 110 Courthouse Square, Whiteville, North Carolina.
Send comments to Mr. Billy Joe Farmer, Columbus County Manager, 111 Washington Street, Whiteville, North Carolina, 28472.
Town of Lake Waccamaw
Maps available for inspection at the Office of the Building Inspector, 205 Flemington Drive, Lake Waccamaw, North Carolina.
Send comments to Mr. Lloyd Payne, Lake Waccamaw Town Manager, P.O. Box 145, Lake Waccamaw, North Carolina, 28450.
Town of Whiteville
Maps available for inspection at the Whiteville City Hall, 317 South Madison Street, Whiteville, North Carolina.
Send comments to The Honorable Ann Jones, Mayor of the City of Whiteville, P.O. Box 607, Whiteville, North Carolina, 28472.
NORTH CAROLINA
Craven County
Bachelor Creek | At Washington Post Road | None | •8 | Craven County (Unincorporated Areas).
| At the Craven/Jones County boundary | None | •29
Beaverdam Branch | At the confluence with Bachelor Creek | None | •10 | Craven County (Unincorporated Areas).
| Approximately 0.4 mile upstream of Hyman Road | None | •12
Beaverdam Swamp | At the confluence with Little Swift Creek | None | •9 | Craven County (Unincorporated Areas).
| Approximately 800 feet upstream of Hudnell Road | None | •17
Black Swamp Creek | Approximately 2.0 miles downstream of Catfish Lake Road | None | •30 | Craven County (Unincorporated Areas).
| Approximately 0.9 mile upstream of Catfish Lake Road | None | •37
Brice Creek | At upstream side of Old Airport Road | None | •8 | Craven County (Unincorporated Areas).
| At the confluence with East Prong Brice Creek | None | •15
Bushy Fork | At the confluence with Little Swift Creek | None | •23 | Craven County (Unincorporated Areas).
| Approximately 0.8 mile upstream of the confluence with Little Swift Creek | None | •28
Cahoogue Creek | Approximately 0.5 mile downstream of State Route 306 | None | •8 | Craven County (Unincorporated Areas).
| Approximately 0.3 mile upstream of NC Route 101 | None | •19
Clayroot Swamp | At the confluence with Swift Creek | None | •19 | Craven County (Unincorporated Areas).
| Approximately 0.5 mile upstream of Wilmer Road | None | •21
Clubfoot | At the downstream side of Adam Creek Road | None | •8 | Craven County (Unincorporated Areas).
| Approximately 1,850 feet downstream of Hodge Road | None | •10 |
Clubfoot Creek Tributary | Approximately 1,800 feet downstream of Adams Creek Road | None | •8 | Craven County (Unincorporated Areas).
| Approximately 300 feet upstream of George Road | None | •13 |
Core Creek | At the confluence with Neuse River | None | •19 | Craven County (Unincorporated Areas).
| Approximately 0.8 mile upstream of Trenton Road | None | •36 |
Creeping Swamp | At the confluence with Clayfoot Swamp | None | •21 | Craven County (Unincorporated Areas).
| At the Craven/Beaufort County boundary | None | •33 |
Deep Branch | At the confluence with Bachelor Creek | None | •14 | Craven County (Unincorporated Areas).
| Approximately 0.5 mile downstream of Clarks Road | None | •14 |
East Prong Brice Creek | At the confluence with Brice Creek | None | •15 | Craven County (Unincorporated Areas).
| Approximately 1.9 miles upstream of the confluence with Brice Creek | None | •19 |
East Prong Mortons Mill Pond | At the confluence with Mortons Mill Pond | None | •8 | Craven County (Unincorporated Areas).
| Approximately 1,500 feet upstream of NC 101 | None | •10 |
East Prong Slocum Creek | At the upstream side of Railroad Street | None | •15 | City of Havelock, Craven County (Unincorporated Areas).
| Approximately 1.5 miles upstream of Railroad Street | None | •19 |
Fisher Swamp | At the confluence with Beaver Dam Swamp | None | •9 | Craven County (Unincorporated Areas).
| Approximately 3.4 miles upstream of the confluence with Beaverd dam Swamp | None | •22 |
Flat Branch | At the confluence with Core Creek | None | •19 | Craven County (Unincorporated Areas).
| Approximately 1.8 miles upstream of NC 55 | None | •30 |
Great Branch | At the confluence with Brice Creek | None | •15 | Craven County (Unincorporated Areas).
| Approximately 900 feet upstream of Tebo Road | None | •19 |
Hancock Creek | At the upstream side of NC 101 | None | •8 | City of Havelock, Craven County (Unincorporated Areas).
| Approximately 1.6 miles upstream of NC 101 | None | •21 |
Hollis Branch | At the confluence with Bachelor Creek | None | •27 | Craven County (Unincorporated Areas).
| Approximately 540 feet upstream of Hillard Road | None | •36 |
Hunters Creek | At the Craven/Carteret/Jones County boundary | None | •24 | Craven County (Unincorporated Areas).
| Approximately 500 feet downstream of Great Lake | None | •40 |
Jumping Run | At the confluence with Bachelor Creek | None | •8 | Craven County (Unincorporated Areas).
| Approximately 250 feet downstream of Highway 55 | None | •15 |
Little Swift Creek | At the upstream side of Highway 17 | None | •8 | Craven County (Unincorporated Areas).
| Approximately 650 feet upstream of Beaver Dam Road | None | •25 |
Maple Cypress | At the confluence with Neuse River | None | •20 | Craven County (Unincorporated Areas).
| Approximately 0.7 mile upstream of Harris Road | None | •29 |
Mauls Swamp | At the upstream side of Mill Pond Road | None | •35 | Town of Vanceboro, Craven County (Unincorporated Areas).
| Approximately 1.1 miles upstream of the confluence of Mauls Swamp Tributary 2 | None | •34 |
Mauls Swamp Tributary 1 | At the confluence with Mauls Swamp | None | •23 | Craven County (Unincorporated Areas).
| Approximately 0.8 mile upstream of the confluence with Mauls swamp | None | •30 |
Mauls Swamp Tributary 2 | At the confluence with Mauls Swamp | None | •28 | Craven County (Unincorporated Areas).
| Approximately 0.9 mile upstream of the confluence with Mauls Swamp | None | •35 |
Mill Branch | At the confluence with Core Creek | None | •26 | Craven County (Unincorporated Areas).
| Approximately 4.5 miles upstream of the confluence with Core Creek | None | •56 |
Molocks Branch | At the confluence with Hancock Creek | None | •8 | Craven County (Unincorporated Areas).
| Approximately 0.7 mile upstream of the confluence with Hancock Creek | None | •14 |
Morgan Swamp | At the confluence with Upper Broad Creek | None | •10 | Craven County (Unincorporated Areas).
| Approximately 1.2 miles upstream of Morgan Swamp Road | None | •22 |
Mosley Creek | At the confluence with Neuse River | None | •25 | Craven County (Unincorporated Areas).
| Approximately 1.7 miles upstream of the confluence with Neuse River | •24 | •25 |
Mosley Creek Tributary | At the confluence with Mosley Creek | None | •29 | Craven County (Unincorporated Areas).
| Approximately 2 miles upstream of the confluence with Mosley Creek | None | •37 |
Neuse River | Approximately 0.7 mile upstream of the confluence of Swift Creek | •8 | •9 | City of New Bern, Craven County (Unincorporated Areas).
| Approximately 1.2 miles upstream of the confluence with Contentnea Creek | None | •25
Palmetto Swamp | At the confluence with Swift Creek | None | •17 | Craven County (Unincorporated Areas).
| Approximately 1.5 miles upstream of Palmetto Swamp Tributary 4 | None | •32 |
Palmetto Swamp Tributary 1 | At the confluence with Palmetto Swamp | None | •19 | Craven County (Unincorporated Areas)
| Approximately 0.9 mile upstream of the confluence with Palmetto Swamp | None | •27
Palmetto Swamp Tributary 2 | At the confluence with Palmeto Swamp | None | •20 | Craven County (Unincorporated Areas).
| Approximately 150 feet upstream of Clark Road | None | •26
Palmetto Swamp Tributary 3 | At the confluence with Palmetto Swamp | None | •24 | Craven County (Unincorporated Areas)
| Approximately 0.6 mile upstream of the confluence with Palmetto Swamp | None | •28
Palmetto Swamp Tributary 4 | At the confluence with Palmetto Swamp | None | •29 | Craven County (Unincorporated Areas).
| Approximately 800 feet upstream of Gray Road | None | •39
Pine Tree Swamp | At the confluence with Little Swift Creek | None | •14 | Craven County (Unincorporated Areas).
| At Cayton Road | None | •25
Pollard Swamp | At the confluence with Creeping Swamp | None | •30 | Craven County (Unincorporated Areas).
| Approximately 1.4 miles upstream of Pollard Road | None | •41
Rollover Creek | At the confluence with Bachelor Creek | None | •17 | Craven County (Unincorporated Areas).
| Approximately 0.7 mile upstream of Rollover Creek Road | None | •37
Round Tree Branch | At the confluence with Bachelor Creek | None | •8 | Craven County (Unincorporated Areas).
| Approximately 1.2 miles upstream of the confluence with Bachelor Creek | None | •11
South Canal | At the confluence with Hunters Creek | None | •33 | Craven County (Unincorporated Areas).
| Approximately 0.9 mile upstream of the confluence with Hunters Creek | None | •38
Southwest Prong Slocum Creek | At the upstream side of Miller Boulevard | None | •8 | City of Havelock, Craven County (Unincorporated Areas).
| Approximately 2.9 miles upstream of Central Street | None | •27
Spe Branch | At the confluence with Cahoogue Creek | None | •10 | Craven County (Unincorporated Areas).
| Approximately 0.7 mile upstream of confluence with Cahoogue Creek | None | •15
Swift Creek | Approximately 0.6 mile upstream of NC Highway 43 | •8 | •9 | Town of Vanceboro, Craven County (Unincorporated Areas).
| Approximately 300 feet upstream of Gardnerville Road | None | •28
Tracey Swamp | At the upstream side of Sand Hill Road | None | •42 | Craven County (Unincorporated Areas).
| At the Craven/Jones County boundary | None | •43
Upper Broad Creek (Neuse Portion) | Approximately 1.8 miles downstream of the confluence of Deep Run | None | •8 | Craven County (Unincorporated Areas).
| Approximately 2.9 miles upstream of the confluence of Possum Swamp | None | •29
Upper Broad Creek (Tar-Pamlico Portion) | Approximately 125 feet downstream of the Craven/Beaufort County boundary | None | •31 | Craven County (Unincorporated Areas).
| Approximately 0.7 miles upstream of the Craven/Beaufort County boundary | None | •37
Village Creek | At the confluence with Neuse River | None | •20 | Craven County (Unincorporated Areas).
| Approximately 400 feet upstream of Highway 55 | None | •45
West Prong Brice Creek | At the confluence with Brice Creek | None | •15 | Craven County (Unincorporated Areas).
| Approximately 0.7 mile upstream of Catfish Lake Road | None | •36
West Prong Mortons Mill Pond | At the confluence with Mortons Mill Pond | None | •8 | Craven County (Unincorporated Areas).
| Approximately 1.3 miles upstream of North Carolina Route 101 | None | •18
City of Havelock
Maps available for inspection at the City of Havelock Planning Department, 199 Cunningham Boulevard, Havelock, North Carolina.
Send comments to The Honorable George Griffin, Mayor of the City of Havelock, P.O. Box 368, Havelock, North Carolina 28532.
City of New Bern
Maps available for inspection at the New Bern Building Inspection Department, 300 Pollock Street, New Bern, North Carolina.
Send comments to The Honorable Tom Bayliss, III, Mayor of the City of New Bern, P.O. Box 1129, New Bern, North Carolina 28563.
Unincorporated Areas of Craven County
Maps available for inspection at the Craven County Planning Department, Craven County Government, 406 Craven Street, New Bern, North Carolina.
Send comments to Mr. Johnnie Sampson, Jr., Chairman of the Craven County Board of Commissioners, 406 Craven Street, New Bern, North Carolina 28560.
Town of Vanceboro
Maps available for inspection at the Craven County Planning Department, 406 Craven Street, New Bern, North Carolina.
Send comments to The Honorable Jimmie Morris, Mayor of the Town of Vanceboro, P.O. Box 306, Vanceboro, North Carolina 28586.
NORTH CAROLINA
Granville County
Aycock Creek | At the confluence with Johnson Creek | None | •317 | Granville County (Unincorporated Areas).
| Approximately 1,880 feet upstream of Sanders Road | None | •360
Beaverdam Creek | At the Granville/Wake County boundary | None | •262 | Granville County (Unincorporated Areas).
| Approximately 600 feet upstream of NC 56 | None | •318
Beaverdam Creek Tributary 3 | At the confluence with Beaverdam Creek | None | •282 | Granville County (Unincorporated Areas).
| Approximately 0.9 mile upstream of Side Road | None | •319
Beaverdam Creek Tributary 5 | At the confluence with Beaverdam Creek | None | •305 | Granville County (Unincorporated Areas).
| Approximately 0.4 mile upstream of the confluence with Beaverdam Creek | None | •314
Bollens Creek | At the confluence with Boul Creek | None | •321 | Granville County (Unincorporated Areas).
| Approximately 0.6 mile upstream of US HWY 15 | None | •408
Boul Creek | At the confluence with the Tar River | •319 | •317 | Granville County (Unincorporated Areas).
| Approximately 1.3 miles upstream of the confluence of Bollens Creek | None | •358
Camp Creek | At the confluence with Knap of Reeds Creek | None | •376 | Granville County (Unincorporated Areas).
| At the Granville/Durham County boundary | None | •427
Cedar Creek | At the confluence with Robertson Creek | None | •279 | Granville County (Unincorporated Areas).
| Approximately 1.3 miles upstream of Hayes Road | None | •313
Coon Creek | Approximately 200 feet upstream of the confluence with Fishing Creek | None | •343 | Granville County (Unincorporated Areas), City of Oxford.
| Approximately 100 feet upstream of Winding Oak Road | None | •450
Cozart Creek | Approximately 450 feet downstream of West B Street | None | •262 | Granville County (Unincorporated Areas).
| Approximately 1,900 feet upstream of Coley Road | None | •272
Cozart Creek Tributary 1 | Approximately 250 feet downstream of Roycroft Road | None | •262 | Granville County (Unincorporated Areas).
| Approximately 1.5 miles upstream of US 15 | None | •282
Cozart Creek Tributary 2 | At the confluence with Cozart Creek Tributary 1 | None | •262 | Granville County (Unincorporated Areas).
| Approximately 0.9 mile upstream of the confluence with Cozart Creek Tributary 1 | None | •278
Cozart Creek Tributary 3 | At the confluence with Cozart Creek Tributary 2 | None | •262 | Granville County (Unincorporated Areas).
| Approximately 0.5 mile upstream of Northside Road | None | •270
Cub Creek | At the confluence with the Tar River | None | •432 | Granville County (Unincorporated Areas).
| Approximately 600 feet upstream of George Sherman Road | None | •478
Cub Creek Tributary 1 | At the confluence with Cub Creek | None | •439 | Granville County (Unincorporated Areas).
| At the Granville/Person County boundary | None | •477
Dickens Creek | At the confluence with Knap of Reeds Creek | None | •360 | Granville County (Unincorporated Areas).
| Approximately 1,650 feet upstream of Little Mountain Road | None | •440
Fishing Creek | Approximately 700 feet upstream of Knotts Grove Road | None | •375 | Granville County (Unincorporated Areas), City of Oxford
| Approximately 1,700 feet upstream of Interstate 85 | None | •409
Fishing Creek Tributary 1 | Approximately 200 feet upstream of US HWY 15 | None | •434 | Granville County (Unincorporated Areas), City of Oxford.
| Approximately 50 feet upstream of Sunset Avenue | None | •457
Fork Creek | At the confluence with the Tar River | None | •245 | Granville County (Unincorporated Areas).
| Approximately 500 feet upstream of Old Mill Farm Road | None | •342
Fox Creek | At the confluence with Shelton Creek | None | •246 | Granville County (Unincorporated Areas).
| Approximately 3.4 miles upstream of Sunset Road | None | •376
Gibbs Creek | At the confluence with the Tar River | None | •288 | Granville County (Unincorporated Areas).
| Approximately 4.9 miles upstream of Gray Rock Road | None | •469
Holman Creek | At Brogden Road | None | •288 | Granville County (Unincorporated Areas), City of Creedmoor.
| Approximately 700 feet upstream of State Route 1136 | None | •469
Holman Creek Tributary 1 | At the confluence with Holman Creek | None | •378 | Granville County (Unincorporated Areas), Town of Stem.
| Approximately 2,000 feet upstream of Tally Ho Road | None | •436
Holman Creek Tributary 2 | At the confluence with Holman Creek | None | •395 | Granville County (Unincorporated Areas).
| Approximately 0.4 mile upstream of the confluence with Holman Creek | None | •428
Holman Creek Tributary 3 | At the confluence with Holman Creek | None | •309 | Granville County (Unincorporated Areas).
| Approximately 0.7 mile upstream of the confluence with Holman Creek | None | •330
Jackson Creek | At the confluence with the Tar River | •359 | •366 | Granville County (Unincorporated Areas).
| Approximately 1.6 miles upstream of Old Route 75 | None | •441
Johnson Creek | Approximately 0.4 mile Tar River Road | None | •317 | Granville County downstream of (Unincorporated Areas).
| Approximately 1,100 feet downstream of Interstate 85 | None | •363
Johnson Creek Tributary | Approximately 1,700 feet of Tar River Road | None | •316 | Granville County downstream (Unincorporated Areas).
| Approximately 0.7 mile upstream of Tar River Road | None | •329
Jordan Creek Tributary 1 | At the confluence with Jordan Creek | None | •448 | Granville County (Unincorporated Areas), City of Oxford
| Approximately 1.4 miles upstream of the confluence with Jordan Creek | None | •480
Jordan Creek Tributary 2 | At the confluence with Jordan Creek | None | •448 | Granville County (Unincorporated Areas), City of Oxford.
| Approximately 0.7 mile upstream of the confluence with Jordan Creek | None | •462
Knap Creek Tributary | At the confluence with Lake Butner | None | •360 | Granville County (Unincorporated Areas).
| Approximately 700 feet upstream of Roberts Chapel Road | None | •419
Knap of Reeds Creek | At Roberts Chapel Road | None | •360 | Granville County (Unincorporated Areas).
| Approximately 0.7 mile upstream of Enon Road | None | •452
Knap of Reeds Creek Tributary 1 | At the confluence with Knap Creek | None | •422 | Granville County of Reeds (Unincorporated Areas).
| Approximately 1.1 miles upstream of the confluence with Knap of Reeds Creek | None | •459
Knap of Reeds Creek Tributary 2 | At the confluence with Knap of Reeds Creek | None | •446 | Granville County (Unincorporated Areas).
| Approximately 0.6 mile upstream of the confluence with Knap of Reeds Creek | None | •456
Knap Reed Tributary | At the confluence with Knap of Reeds Creek | None | •265 | Granville County (Unincorporated Areas).
| Approximately 1,000 feet downstream of Amed Road | None | •265
Ledge Creek | At the Granville/Wake County boundary | None | •263 | Granville County (Unincorporated Areas), Town of Stem.
| Approximately 0.6 mile upstream of Little Mountain Road | None | •472
Ledge Creek Tributary 2 | At the confluence with Ledge Creek | None | •267 | Granville County (Unincorporated Areas).
| Approximately 0.9 mile upstream of the confluence with Ledge Creek | None | •280
Ledge Creek Tributary 3 | At the downstream side of U.S. 15 | None | •278 | Granville County (Unincorporated Areas), City of Creedmoor.
| Approximately 0.4 mile upstream of U.S. 15 | None | •311
Ledge Creek Tributary 4 | Approximately 1,500 feet upstream of the confluence of Ledge Creek Tributary 3 | None | •279 | Granville County (Unincorporated Areas), City of Creedmoor.
| Approximately 1,150 feet upstream of Charles Street | None | •314
Mill Creek | At the confluence with New Light Creek and West Prong | None | •294 | Granville County (Unincorporated Areas).
| Approximately 300 feet upstream of Woodland Church Road | None | •343
New Light Creek | At the Granville/Wake County boundary | None | •283 | Granville County (Unincorporated Areas).
| At the confluence with Mill Creek and West Prong | None | •294
New Light Creek Tributary (Basin 3 Stream 8) | At the downstream Granville/Wake County boundary | None | •316 | Granville County (Unincorporated Areas).
| At the upstream Granville/Wake County boundary | None | •358
New Light Creek Tributary 4 | At the Granville/Wake County boundary | None | •283 | Granville County (Unincorporated Areas).
| Approximately 0.4 mile upstream of the Granville/Wake County boundary | None | •296
North Fork Tar River | At the confluence with the Tar River | None | • 397 | Granville County (Unincorporated Areas).
| Approximately 1.1 miles upstream of the confluence of North Fork Tar River Tributary 2 | None | • 468 |
North Fork Tar River Tributary 1 | At the confluence with North Fork Tar River | None | • 397 | Granville County (Unincorporated Areas).
| Approximately 2.9 miles upstream of the confluence with North Fork Tar River | None | • 459 |
North Fork Tar River Tributary 2 | At the confluence with North Fork Tar River | None | • 445 | Granville County (Unincorporated Areas).
| Approximately 1.0 mile upstream of Bodie Currin Road | None | • 458 |
Owen Creek | At the confluence with the Tar River | None | • 387 | Granville County (Unincorporated Areas).
| Approximately 2.1 miles upstream of Harper Renn Road | None | • 436 |
Picture Creek | At Central Avenue Extension | None | • 283 | Granville County (Unincorporated Areas).
| Approximately 0.7 mile upstream of the confluence with Picture Creek Tributary | None | • 344 |
Picture Creek Tributary | At the confluence with Picture Creek | None | • 316 | Granville County (Unincorporated Areas).
| Approximately 0.5 mile upstream of the confluence with Picture Creek | None | • 339 |
Reedy Branch | At the confluence with Beaverdam Creek | None | • 271 | Granville County (Unincorporated Areas).
| Approximately 0.6 mile upstream of Country Lane | None | • 333 |
Robertson Creek | At the confluence with Beaverdam Creek | None | • 262 | Granville County (Unincorporated Areas), City of Creedmoor.
| Approximately 1.2 miles upstream of the confluence of Robertson Creek Tributary 2 | None | • 308
Robertson Creek Tributary 1 | At the confluence with Robertson Creek | None | • 262 | Granville County (Unincorporated Areas).
| Approximately 0.8 mile upstream of Dove Road | None | • 277
Robertson Creek Tributary 2 | At the confluence with Robertson Creek | None | • 295 | Granville County (Unincorporated Areas).
| Approximately 0.4 mile upstream of Moss Back Road | None | • 305 |
Rocky Creek | At the confluence with the Tar River | None | • 384 | Granville County (Unincorporated Areas).
| Approximately 2.9 miles upstream of James Royster Road | None | • 431 |
Shelton Creek | At the confluence with the Tar River | None | • 399 | Granville County (Unincorporated Areas).
| Approximately 1,250 feet upstream of Goshen Road | None | • 529 |
Smith Creek | At the confluence with Beaverdam Creek | None | • 262 | Granville County (Unincorporated Areas).
| Approximately 2.3 miles upstream of Lawrence Road | None | • 371 |
Syble Creek | At the Granville/Wake County boundary | None | • 262 | Granville County (Unincorporated Areas).
| Approximately 0.8 mile upstream of US 15 | None | • 304 |
Tabbs Creek | Approximately 700 feet upstream of Tom Parham Road | None | • 419 | Granville County (Unincorporated Areas).
| Approximately 0.6 mile upstream of Tom Parham Road | None | • 426 |
Tar River | At the downstream County boundary | None | • 245 | Granville County (Unincorporated Areas).
| Approximately 225 feet upstream of the Granville/Person County Boundary | None | • 500 |
Tar River Tributary 2 | At the confluence with the Tar River | None | • 313 | Granville County (Unincorporated Areas).
| Approximately 1.3 miles upstream of Tom Hunt Road | None | • 330 |
Tar River Tributary 3 | At the confluence with Tar River Tributary 2 | None | • 314 | Granville County (Unincorporated Areas).
| Approximately 1.1 miles upstream of Tar River Tributary 2 | None | • 334 |
Tar River Tributary 4 | At the confluence with the Tar River | None | • 449 | Granville County (Unincorporated Areas).
| Approximately 1.2 miles upstream of Gene Hobgood Road | None | • 493 |
West Prong | At the confluence with New Light Creek and Mill Creek | None | • 294 | Granville County (Unincorporated Areas).
| Approximately 1.2 miles upstream of Graham Sherron Road | None | • 357 |
West Prong Tributary | At the confluence with West Prong | None | • 305 | Granville County (Unincorporated Areas).
| Approximately 650 feet upstream of Woodland Church Road | None | • 356 |
City of Creedmoor
Maps available for inspection at the City of Creedmoor Planning and Zoning Office, 111 Masonic Street, Creedmoor, North Carolina.
Send comments to The Honorable Darryl Moss, Mayor of the City of Creedmoor, P.O. Box 765, Creedmoor, North Carolina 27522.
Town of Stem
Maps available for inspection at the Granville County Planning Department, 122 Williamsboro Street, Oxford, North Carolina.
Send comments to The Honorable Jack Day, Mayor of the Town of Stem, 113 Old NC 75N, Creedmoor, North Carolina 27522.
Unincorporated Areas of Granville County
Maps available for inspection at the Granville County Planning Department, 122 Williamsboro Street, Oxford, North Carolina.
Send comments to Mr. J. Dudley Watts, Jr., Granville County Manager, P.O. Box 906, Oxford, North Carolina 27565.
NORTH CAROLINA
Johnston County
Arters Branch | Approximately 0.6 mile upstream of the confluence with the Neuse River | None | •124 | Town of Smithfield, Johnston County (Unincorporated Areas).
| Approximately 300 feet upstream of North Johnson Road | None | •155 |
Bawdy Creek | Approximately 1.3 miles upstream of the confluence with the Neuse River | None | •88 | Johnston County (Unincorporated Areas).
| At the confluence of Bawdy Swamp and Quincosin Swamp | None | 110 |
Bawdy Swamp | At the confluence of Bawdy Creek and Quincosin Swamp | None | •110 | Johnston County (Unincorporated Areas).
| Approximately 0.8 mile upstream of U.S. Route 70 | None | •160 |
Beaverdam Branch | Approximately 0.5 mile upstream of the confluence with Middle Creek | •172 | •173 | Johnston County (Unincorporated Areas).
| Approximately 100 feet downstream of Raleigh Road | None | •183 |
Beaverdam Creek | At the Wayne/Johnston County boundary | None | •124 | Town of Princeton, Johnston County (Unincorporated Areas).
| Approximately 450 feet downstream of East Edwards Street | None | •141 |
Beaverdam Swamp | Approximately 0.3 mile upstream of the confluence with Hannah Creek | •128 | •129 | Johnston County (Unincorporated Areas).
| Approximately 1,300 feet upstream of Tettersville Road | None | •151 |
Beddingfield Creek | Approximately 0.5 mile downstream of Wake/Johnston County boundary | None | •164 | Johnston County (Unincorporated Areas).
| Approximately 1.0 mile downstream of the confluence with the Neuse River | None | •166 |
Bernal Branch | Approximately 1,250 feet downstream of Interstate 95 | •128 | •129 | Johnston County (Unincorporated Areas).
| Approximately 1.6 miles upstream of Railroad | None | •185 |
Big Arm Creek | At the confluence of Marks Creek | None | •163 | Town of Clayton, Johnston County (Unincorporated Areas).
| Approximately 0.5 mile upstream of Medlin Road | None | •184 |
Big Branch | At the confluence with Little River | •140 | •141 | Town of Micro, Johnston County (Unincorporated Areas).
| Approximately 0.3 mile upstream of Micro Road West | None | •183 |
Black Creek | Approximately 300 feet upstream of Highway 210 | None | •191 | Johnston County (Unincorporated Areas).
| At the Wake/Johnston County boundary | None | 213 |
Black Creek Tributary | Approximately 1,750 feet upstream of the confluence with Black Creek | None | •185 | Johnston County (Unincorporated Areas).
| Approximately 2.5 miles upstream of the confluence with Black Creek | None | •212 |
Buffalo Creek (East) | At the upstream side of N.C. 42 | None | •205 | Johnston County (Unincorporated Areas).
| At the Wake/Johnston County boundary | None | •246 |
Bull Branch | At the confluence with Moccasin Creek | None | •152 | Johnston County (Unincorporated Areas).
| Approximately 2.3 miles upstream of the confluence with Moccasin Creek | None | •218 |
Burnt Stocking Branch | At the confluence with Little Creek (near Micro) | None | •139 | Johnston County (Unincorporated Areas).
| Approximately 0.3 mile downstream of Interstate 95 | None | •169 |
Camp Branch | Approximately 1,300 feet upstream of the confluence with Black Creek | None | •162 | Johnston County (Unincorporated Areas).
| Approximately 0.3 mile upstream of Stephenson Road | None | •177 |
Cattail Creek | At the confluence with Little River | None | •182 | Johnston County (Unincorporated Areas).
| Approximately 900 feet upstream of Harris Wilson Road | None | •274 |
Cooper Branch | Approximately 0.2 mile upstream of Little Creek Church Road | None | •142 | Johnston County (Unincorporated Areas).
| Approximately 0.4 mile upstream of Little Creek Church Road | None | •144 |
Dicks Branch | Approximately 2,000 feet upstream of the confluence with Black Creek | •158 | •159 | Johnston County (Unincorporated Areas).
| Approximately 1,980 feet upstream of Zacks Mill Road | None | •172 |
Dismal Branch | At the confluence with Johnson Swamp | None | •129 | Johnston County (Unincorporated Areas).
| Approximately 300 feet downstream of Interstate 40 | None | •149 |
Great Swamp | At the Wayne/Johnston County boundary | None | •160 | Johnston County (Unincorporated Areas).
| Approximately 150 feet upstream of the Wayne/Johnston County boundary | None | •161
Hannah Creek | Approximately 0.5 mile upstream of the confluence of Stony Fork | None | •134 | Town of Benson, Johnston County (Unincorporated Areas).
| Approximately 0.5 mile upstream of Interstate 40 | None | •168
Hannah Creek Tributary 2 | At the confluence with Hannah Creek | None | •147 | Town of Benson, Johnston County (Unincorporated Areas).
| Approximately 500 feet upstream of Tarheel Road | None | •184
Hardee Mill Branch | Approximately 1,900 feet upstream of the confluence with Black Creek | None | •158 | Johnston County (Unincorporated Areas).
| Approximately 0.8 mile upstream of Benson Hardee Road | None | •177
Hogpen Branch | At the confluence with Bernal Branch | None | •136 | Johnston County (Unincorporated Areas).
| Approximately 0.5 mile upstream of Hummingbird Road | None | •152
John K. Swamp | At the confluence with Mill Creek | None | •149 | Johnston County (Unincorporated Areas).
| Approximately 0.7 mile upstream of Holly Grove Road | None | •188
John K. Swamp Tributary | At the confluence with John K. Swamp | None | •186 | Johnston County (Unincorporated Areas).
| Approximately 720 feet upstream of the confluence with John K. Swamp | None | •187
Johnson Swamp | At the confluence with Stone Creek | None | •121 | Johnston County (Unincorporated Areas).
| Approximately 1,200 feet upstream of Highway 96 | None | •172
Johnson Swamp Tributary | At the confluence with Johnson Swamp | None | •146 | Johnston County (Unincorporated Areas).
| Approximately 950 feet upstream of Highway 96 | None | •169
Jumping Run | At the confluence with Mill Creek | None | •158 | Johnston County (Unincorporated Areas).
| Approximately 1.1 miles upstream of Jumping Run Road | None | •191
Juniper Swamp | Approximately 500 feet upstream of Webb Mill Road | None | •112 | Town of Four Oaks, Johnston County (Unincorporated Areas).
| Approximately 1,650 feet upstream of Interstate 95 | None | •158
Juniper Swamp Tributary 1 | At the confluence with Juniper Swamp | None | •119 | Town of Four Oaks, Johnston County (Unincorporated Areas).
| Approximately 1.6 miles upstream of the confluence with Juniper Swamp | None | •157
Juniper Swamp Tributary 2 | At the confluence with Juniper Swamp Tributary 1 | None | •132 | Town of Four Oaks, Johnston County (Unincorporated Areas).
| Approximately 350 feet downstream of Keen Road | None | •155
Little Bernal Branch | At the confluence with Bernal Branch | None | •155 | Johnston County (Unincorporated Areas).
| Approximately 0.4 mile upstream of the confluence with Bernal Branch | None | •157
Little Black Creek | At the confluence with Black Creek | None | •191 | Johnston County (Unincorporated Areas).
| At the Wake/Johnston County boundary | None | •228
Little Buffalo Creek | At the confluence with Little River | •146 | •147 | Johnston County (Unincorporated Areas).
| Approximately 1.4 miles upstream of Meadow Road | None | •197
Little Buffalo Creek Tributary | At the confluence with Little Buffalo Creek | None | •151 | Town of Kenly, Johnston County (Unincorporated Areas).
| Approximately 100 feet downstream of Wilson/Johnston County boundary | None | •169
Little Creek | Approximately 0.6 mile upstream of Shotwell Road | None | •279 | Town of Clayton, Johnston County (Unincorporated Areas).
| Approximately 0.6 mile downstream of the Wake/Johnston County boundary | None | •320
Little Creek (into Middle Creek) | Approximately 0.7 mile upstream of the confluence with Middle Creek | None | •205 | Johnston County (Unincorporated Areas).
| At the Wake/Johnston County boundary | None | •219
Little Creek (Basin 11, Stream 2) | At the confluence with Moccasin Creek | None | •209 | Johnston County (Unincorporated Areas).
| At the Wake/Johnston County boundary | None | •217
Little Creek (near Micro) | Approximately 0.4 mile upstream of Bizzell Grove Church Road | None | •124 | Town of Micro, Johnston County (Unincorporated Areas).
| Approximately 0.5 mile upstream of Hawkins Road | None | •184
Little River | Approximately 0.6 mile upstream of Wayne/County boundary | •107 | •108 | Town of Kenly, Town of Princeton, Town of Micro, Johnston County (Unincorporated Areas).
| At the Wake/Johnston County boundary | None | •216
Little River Tributary 1 | Approximately 0.3 mile upstream of the confluence with Little River | None | •175 | Johnston County (Unincorporated Areas).
| Approximately 0.4 mile upstream of N.C. 42 | None | •213
Little Swamp Branch | At the confluence with John K. Swamp | None | •168 | Johnston County (Unincorporated Areas).
| Approximately 0.5 mile upstream of T Bar Road | None | •177
Long Branch | Approximately 650 feet downstream of Shoeheel Road | • 157 | • 158 | Johnston County (Unincorporated Areas).
| Approximately 0.7 mile upstream of N.C. 96 | None | • 212 |
Marks Creek | Approximately 0.8 mile downstream of Pritchard Road | None | • 159 | Town of Clayton, Johnston County (Unincorporated Areas).
| At the Wake/Johnston County boundary | None | • 176
McCullens Branch | Approximately 0.7 mile upstream of the confluence with Black Creek | None | •162 | Johnston County (Unincorporated Areas).
| Approximately 0.5 mile upstream of Clayton Road | None | • 194 |
Mill Creek | Approximately 0.7 mile upstream of the confluence of Stone Creek | None | • 105 | Johnston County (Unincorporated Areas).
| Approximately 0.6 mile upstream of Godwin Lake Road | None | •193
Mill Creek (near Clayton) | At the confluence with the Neuse River | • 146 | • 145 | Town of Clayton, Johnston County (Unincorporated Areas).
Mill Creek (near Selma) | Approximately 0.6 miles upstream of the confluence with the Neuse River | None | • 131 | Town of Selma, Johnston County (Unincorporated Areas).
Mill Creek Tributary 2 | Approximately 0.6 mile upstream of the confluence with Mill Creek | • 96 | • 97 | Johnston County (Unincorporated Areas).
Mill Creek (near Tributary 3 | Approximately 0.5 mile upstream of the confluence with Mill Creek | None | • 99 | Johnston County (Unincorporated Areas).
| Approximately 0.4 mile upstream of Shaws Pond Road | None | • 121 |
Mill Creek Tributary 4 | At the confluence with Mill Creek | None | • 115 | Johnston County (Unincorporated Areas)
Mill Creek Tributary 5 | At the confluence with Mill Creek | None | • 122 | Johnston County (Unincorporated Areas).
Mill Creek Tributary 6 | Approximately 0.6 mile upstream of Randall Chapel Road | None | • 97 | Johnston County (Unincorporated Areas).
| Approximately 0.4 mile upstream of Scout Road | None | • 129
Mill Swamp Branch | At the conference with John K. Swamp | None | • 129 |
Mill Swamp Branch | At the confluence with John K. Swamp | None | • 163 | Johnston county (Unincorporated Areas).
Moccasin Creek (near Princeton) | Approximately 0.4 mile upstream of U.S. Route 70 | None | • 127 | Town of Pine Level, Town of Princeton, Johnston County (Unincorporated Areas).
Moccasion Creek | At the Johnston/Wilson County boundary | None | • 152 | Johnston County (Unincorporated Areas).
| Approximately 800 feet downstream of Railroad
| At interstate 264 | None | • 219 |
Moccasin Creek Tributary 1 | At the confluence with of Moccasin Creek | None | • 164 | Johnson County (Unincorporated Areas).
Moccasin creek Tributary 2 | At the confluence with Moccasin Creek | None | • 166 | Johnston County (Unincorporated Areas).
Oak Creek | At the confluence with Stone Creek | None | • 112 | Johnston County (Unicorporated Areas).
Oak Creek Tributary | At the confluence with Oak Creek | None | • 116 | Johnston County (Unincorporated Areas).
| Approximately 1.2 miles upstream of the confluence with Oak Creek | None | • 133 | Johnston County (Unincorporated Areas).
Pole Branch | At the confluence with Black Creek | • 147 | • 148 | Johnston County (Unincorporated Areas).
Polecat Branch | Approximately 1.1 miles downstream of Brogden Road | • 112 | • 113 | Town of Smithfield, Johnston County (Unincorporated Areas).
| Approximately 2.2 miles upstream of Brogden Road | None | • 137 |
Quincosin Swamp | At the confluence of Bawdy Creek and Bawdy Swamp | None | • 137 |
Quincosin Swamp | At the confluence of Bawdy Creek and Bawdy Swamp | None | • 110 | Johnston County (Unincorporated Areas).
Reedy Creek | At King Mill Road | None | • 140 | Johnston County (Unincorporated Areas).
Reedy Prong | At the confluence with Mill Creek | None | • 139 | Johnston County (Unincorporated Areas).
Reedy Prong Tributary | At the confluence with Reedy Prong | None | • 150 | Johnston County (Unincorporated Areas).
| Approximately 200 feet upstream of Thornton Road | None | • 162
Sams Creek | Approximately 0.7 mile upstream of the confluence with the Neuse River | None | • 155 | Town of Clayton, Johnston County (Unincorporated Areas).
| Approximately 0.4 mile downstream of City Road | None | • 210
Snipes Creek | At the confluence with Little River | None | • 204 | Johnston County (Unincorporated Areas).
| At the Wake/Johnston County boundary | None | • 285
Spring Branch (into Little River) | At the upstream side of Princeton Kenly Road | None | • 124 | Johnston County (Unincorporated Areas).
| Approximately 200 feet downstream of Cuddington Road | None | • 214
Spring Branch Tributary | At the confluence with Spring Branch (into Little River) | None | • 130 | Johnston County (Unincorporated Areas).
| Approximately 1.6 miles upstream of Rhodes Road | None | • 211
Stone Creek | Just upstream of U.S. Highway 701 | None | • 108 | Johnston County (Unincorporated Areas).
| Approximately 0.4 mile upstream of Interstate 40 | None | • 205
Stone Creek Tributary | At the confluence with Stone Creek | None | • 156 | Johnston County (Unincorporated Areas).
| Approximately 0.5 mile upstream of Adams Road | None | • 185
Stony Fork | Approximately 200 feet upstream of Railroad | None | • 148 | Johnston County (Unincorporated Areas).
| Approximately 0.6 mile upstream of Shade Tree Road | None | • 164
Stony Fork Tribuary | At the confluence with Stony Fork | None | • 153 | Johnston County (Unincorporated Areas).
| Approximately 300 feet upstream of Interstate 40 | None | • 179
Town of Benson
Maps available for inspection at the Benson Town Hall, Zoning Department, 303 East Church Street, Benson, North Carolina.
Send comments to The Honorable Don Johnson, Mayor of the Town of Benson, P.O. Box 69, Benson, North Carolina 27504.
Town of Clayton
Maps available for inspection at the Clayton Town Hall, Planning Department, 111 East 2nd Street, Clayton, North Carolina.
Send comments to Mr. Steve Biggs, Clayton Town Manager, P.O. Box 879, Clayton, North Carolina 27520.
Town of Four Oaks
Maps available for inspection at the Four Oaks Town Hall, 304 North Main Street, Four Oaks, North Carolina.
Send comments to The Honorable Jack Austin, Mayor of the Town of Four Oaks, P.O. Box 158, Four Oaks, North Carolina 27524.
Johnston County (Unincorporated Areas)
Maps available for inspection at the Johnston County Public Utilities Office, 309 East Market Street, Smithfield, North Carolina.
Send comments to Mr. Rick Hester, Johnston County Manager, P.O. Box 1049, Smithfield, North Carolina 27577.
Town of Micro
Maps available for inspection at the Micro Town Hall, 112 West Main Street, Micro, North Carolina.
Send comments to The Honorable Earl E. (Buddy) Jones, Mayor of the Town of Micro, P.O. Box 31, Micro, North Carolina 27555.
Town of Pine Level
Maps available for inspection at the Pine Level Town Hall, 214 North Peedin Avenue, Pine Level, North Carolina.
Send comments to The Honorable Tony Braswell, Mayor of the Town of Pine Level, P.O. Box 328, Pine Level, North Carolina 27568.
Town of Princeton
Maps available for inspection at the Town of Princeton Public Utilities Office, 309 East Market Street, Princeton, North Carolina.
Send comments to The Honorable Donald Rains, Mayor of the Town of Princeton, P.O. Box 128, Princeton, North Carolina 27569.
Town of Selma
Maps available for inspection at the Town of Selma Planning Department, 100 North Raiford Street, Selma, North Carolina.
Send comments to The Honorable Harry Blackley, Mayor of the Town of Selma, 100 North Raiford Street, Selma, North Carolina 27576.
Town of Smithfield
Maps available for inspection at the Smithfield Town Hall, 350 East Market Street, Smithfield, North Carolina.
Send comments to The Honorable Bill Jordan, Mayor of the Town of Smithfield, 350 East Market Street, Smithfield, North Carolina 27577.
Town of Wilson's Mills
Maps available for inspection at the Wilson's Mills Town Hall, 22 Fire Department Road, Wilson's Mills, North Carolina.
Send comments to The Honorable Pattie Caddell, Mayor of the Town of Wilson's Mills, P.O. Box 448, Wilson's Mills, North Carolina 27593.
NORTH CAROLINA
Wayne County
Richland Creek | Approximately 200 feet upstream of the confluence with Stoney Creek | • 84 | • 85 | City of Goldsboro, Wayne County (Unincorporated Areas).
| Approximately 650 feet upstream of Highway 70 | None | • 107
Stoney Creek | At the confluence with the Neuse River | • 70 | • 71 | City of Goldsboro, Wayne County (Unincorporated Areas).
| Approximately 1,000 feet upstream of the confluence of Reedy Branch | • 89 | • 90
Appletree Swamp | Approximately 500 feet downstream of the Wayne/Greene County boundary | None | • 86 | Wayne County (Unincorporated Areas).
| Approximately 1.2 miles upstream of the Wayne/Greene County boundary | None | • 99
Aycock Swamp | At the Wayne/Wilson County boundary | None | • 76 | Town of Fremont, Wayne County (Unincorporated Areas).
| Approximately 1.5 miles upstream of Black Creek Road | None | • 113
Bear Creek | Approximately 0.2 mile downstream of the Wayne/Greene County boundary | • 75 | • 76 | Wayne County (Unincorporated Areas).
| Approximately 150 feet downstream of Rodell Barron Road | None | • 112
Beaverdam Creek | At the upstream side of Rosewood Road | None | • 82 | Wayne County (Unincorporated Areas).
| At the Wayne/Johnston County boundary | None | • 124
Beaverdam Creek 1 | At the confluence with Falling Creek | None | • 133 | Wayne County (Unincorporated Areas).
| Approximately 1.2 miles upstream of U.S. Route 13 | None | • 147
Mill Creek North | Approximately 0.8 mile upstream of the confluence with Little River | • 89 | • 88 | Town of Pikeville, Wayne County (Unincorporated Areas).
| Approximately 0.5 mile upstream of Pikeville Princeton Road | None | • 136
Mill Creek North Tributary 1 | At the confluence with Mill Creek North | None | • 101 | Wayne County (Unincorporated Areas)
| Approximately 1.2 miles upstream of the confluence with Mill Creek North | None | •136
Mill Creek North Tributary 2 | At the confluence with Mill Creek North | None | • 102 | Wayne County (Unincorporated Areas).
| Approximately 0.5 mile upstream of Hinnant Road | None | • 134
Mill Creek North Tributary 3 | At the confluence with Mill Creek North | None | • 111 | Wayne County (Unincorporated Areas).
| Approximately 0.4 mile upstream of Nahunta Road | None | • 136
Mill Creek North Tributary 4 | At the confluence with Mill Creek North | None | •113 | Town of Pikeville.
| Approximately 540 feet upstream of Nahunta Road | None | • 137
Mill Creek North Tributary 5 | At the confluence with Mill Creek North | None | • 115 | Town of Pikeville.
| Approximately 0.3 mile upstream of Nahunta Road | None | • 134
Neuse River | At the Wayne/Lenoir County boundary | • 53 | •55 | Town of Seven Springs, City of Goldsboro, Wayne County (Unincorporated Areas).
| At the confluence with Mill Creek South | • 83 | • 84
Billy Bud Creek | At the confluence with Stoney Creek | •89 | •90 | City of Goldsboro, Wayne County (Unincorporated Areas).
| Approximately 0.7 mile upstream of North Berkeley Boulevard | None | •118 |
Buck Swamp | At the downstream side of Nor Am Road | None | •109 | Wayne County (Unincorporated Areas).
| Approximately 300 feet upstream of Pikeville Princeton Road | None | •135 |
Button Branch | Approximately 100 feet downstream of Saulston Road | None | •69 | Wayne County (Unincorporated Areas).
| Approximately 1,000 feet upstream of the Wayne/Greene County boundary | None | •70 |
Charles Branch | Approximately 0.3 mile upstream of the confluence with Beaverdam Creek | None | •82 | Wayne County (Unincorporated Areas).
| Approximately 1.7 miles upstream of the confluence with Beaverdam Creek | None | •92 |
Falling Creek | At the confluence of the Neuse River | •83 | •84 | Wayne County (Unincorporated Areas).
| Approximately 850 feet upstream of South Jordans Chapel Road | None | •137 |
Great Swamp | Approximately 500 feet downstream of the Wayne/Wilson County boundary | None | •97 | Wayne County (Unincorporated Areas).
| At the Wayne/Johnston County boundary | None | •160 |
Great Swamp Tributary 1 | At the Wayne/Wilson County boundary | None | •93 | Town of Fremont, Wayne County (Unincorporated Areas).
| Approximately 1.6 miles upstream of the Wayne/Wilson County boundary | None | •115 |
Great Swamp Tributary 2 | At the confluence with Great Swamp | None | •99 | Town of Fremont, Wayne County (Unincorporated Areas).
| Approximately 1.4 miles upstream of the confluence with Great Swamp | None | •110 |
Great Swamp Tributary 3 | At the confluence with Great Swamp | None | •125 | Wayne County (Unincorporated Areas).
| Approximately 0.5 mile upstream of Atlantic Road | None | •156 |
Great Swamp Tributary 4 | At the confluence with Great Swamp | None | •129 | Wayne County (Unincorporated Areas).
| Approximately 0.6 mile upstream of Joe Morris Road | None | •138 |
Howells Branch | Approximately 850 feet upstream of East Patetown Road | None | •106 | City of Goldsboro, Wayne County (Unincorporated Areas).
| Approximately 130 feet upstream of Tommys Road | None | •113 |
Ivy Branch | At the Wayne/Wilson County boundary | None | •68 | Wayne County (Unincorporated Areas).
| Approximately 1.3 miles upstream of St. James Church Road | None | •87 |
Juniper Swamp | At the confluence with Great Swamp | None | •103 | Wayne County (Unincorporated Areas).
| Approximately 0.2 mile upstream of the confluence with White Oak Swamp | None | •117 |
Lee Branch | Approximately 200 feet upstream of McKee Oil Company Road | None | •142 | Town of Mount Olive, Wayne County (Unincorporated Areas)
| Approximately 0.3 mile upstream of Hatchs Hill Lane | None | •148 |
Mills Creek | Approximately 0.2 mile upstream of Highway 13 | None | •115 | City of Goldsboro, Wayne County (Unincorporated Areas).
| Approximately 1.5 miles upstream of Highway 13 | None | •124 |
Nahunta Swamp | At State Highway 581 | None | •124 | Wayne County (Unincorporated Areas).
| Approximately 0.7 mile upstream of Old Kenley Road | None | •136 |
Nahunta Swamp Tributary | Approximately 1,500 feet upstream of the confluence with Nahunta Swamp | None | •88 | Wayne County (Unincorporated Areas).
| Approximately 0.3 mile upstream of St. Highway 222 | None | •108 |
Stoney Creek Tributary | Approximately 100 feet upstream of Stoney Creek Church Road | None | •109 | Wayne County (Unincorporated Areas).
| Approximately 0.4 mile upstream of Stoney Creek Church Road | None | •113 |
Thorough Fare Swamp | Downstream side of Grantham School Road | None | •123 | Wayne County (Unincorporated Areas).
| Approximately 1.7 miles upstream of Odom Mill Road | None | •152 |
Thunder Swamp | At the downstream side of Old Smith Chapel Road | None | •137 | Town of Mount Olive, Wayne County (Unincorporated Areas).
| At the upstream side of Daughery Field Road | None | •160 |
Thunder Swamp Tributary | The upstream side of Highway 55 | None | •150 | Town of Mount Olive, Wayne County (Unincorporated Areas).
| Approximately 0.7 mile upstream of Highway 55 | None | •157 |
Turner Swamp | At the Wayne/Wilson County boundary | None | •77 | Town of Eureka, Wayne County (Unincorporated Areas).
| Approximately 0.4 mile downstream of North Church Street | None | •104 |
Walnut Creek | At the confluence with the Neuse River | •58 | •60 | City of Goldsboro, Village of Walnut Creek, Wayne County (Unincorporated Areas).
| Approximately 0.7 mile upstream of Miller Chapel Road | None | •116 |
Walnut Creek Tributary D | At the confluence with Walnut Creek | None | •98 | Wayne County (Unincorporated Areas).
| Approximately 0.7 mile upstream of Powell Road | None | •105 |
Watery Branch | Approximately 250 feet downstream of the Wayne/Greene County | None | •73 | Town of Eureka, Wayne County (Unincorporated Areas).
| Approximately 2.5 miles upstream of Old Mill Road | None | •108
Yellow Marsh Branch | Approximately 180 feet upstream of railroad | None | •155 | Wayne County (Unincorporated Areas).
| Approximately 0.3 mile upstream of railroad | None | •157
White Oak Swamp | At the confluence with Juniper Swamp | None | •113 | Wayne County (Unincorporated Areas).
| Approximately 0.5 mile upstream of Juniper Swamp | None | •122
Contentnea Creek | Approximately 0.8 mile upstream of Highway 58 | None | •62 | Wayne County (Unincorporated Areas).
| At the downstream side of Highway 222 | None | •64
Mill Creek (South) | At the confluence with the Neuse River | •84 | •83 | Wayne County (Unincorporated Areas).
| Approximately 800 feet upstream of the confluence with the Neuse River | •84 | •83
Reedy Branch | At the confluence of Stoney Creek | •89 | •90 | City of Goldsboro, Wayne County (Unincorporated Areas).
| Approximately 2,500 feet upstream of the confluence with Stoney Creek | •89 | •90
Big Ditch | At the confluence with the Neuse River | •73 | •74 | City of Goldsboro.
| Approximately 0.3 mile upstream of U.S. Highway 70 | None | •119
Little River | At the confluence with Neuse River | •73 | •74 | City of Goldsboro.
| Approximately 0.3 mile upstream of Stevens Mill Road | •74 | •75
Burden Creek | At the confluence with Moccasin Creek | •83 | •84 | Wayne County (Unincorporated Areas).
| Approximately 750 feet upstream of the confluence with Moccasin Creek | •83 | •84
Moccasin Creek | At the confluence with the Neuse River | •83 | •84 | Wayne County (Unincorporated Areas).
| At the Johnston/Wayne County boundary | •83 | •84 | Sleepy Creek | At the confluence with the Neuse River | •62 | •65 | Wayne County (Unincorporated Areas).
| Approximately 0.9 mile upstream of the confluence with the Neuse River | •62 | •65
Town of Eureka
Maps available for inspection at the Eureka Town Hall, 103 West Main Street, Eureka, North Carolina.
Send comments to The Honorable Randy Bass, Mayor of the Town of Eureka, P.O. Box 3150, Eureka, North Carolina 27830.
Town of Fremont
Maps available for inspection at the Fremont Town Hall, 202 North Goldsboro Street, Fremont, North Carolina.
Send comments to The Honorable Floyd A. Evans, Mayor of the Town of Fremont, P.O. Box 818, Fremont, North Carolina, 27830.
City of Goldsboro
Maps available for inspection at the City of Goldsboro Engineering Department, 222 North Center Street, Goldsboro, North Carolina.
Send comments to Mr. Richard M. Slozak, Goldsboro City Manager, P.O. Drawer A, Goldsboro, North Carolina 27530.
Town of Pikeville
Maps available for inspection at the Pikeville Town Hall, 112 Southwest Railroad Street, Pikeville, North Carolina.
Send comments to The Honorable Tony Medlin, Mayor of the Town of Pikeville, P.O. Box 9, Pikeville, North Carolina, 27863.
Town of Seven Springs
Maps available for inspection at the Seven Springs Town Hall, 508 Church Street, Seven Springs, North Carolina.
Send comments to The Honorable Jewel Kilpatrick, Mayor of the Town of Seven Springs, P.O. Box 198, Seven Springs, North Carolina 28578.
Unincorporated Areas of Wayne County
Maps available for inspection at the Wayne County Planning Department, 224 East Walnut Street, Goldsboro, North Carolina.
Send comments to Mr. Lee Smith, Wayne County Manager, P.O. Box 227, Goldsboro, North Carolina 27533-0227.
Village of Walnut Creek
Maps available for inspection at the Walnut Creek County Club, 508 Lake Shore Drive, Goldsboro, North Carolina.
Send comments to The Honorable Ken Ritt, Mayor of the Village of Walnut Creek, P.O. Box 10911, Goldsboro, North Carolina 27534.
PENNSYLVANIA
Lycoming County
Gregs Run | Approximately 523 feet upstream of the confluence with Sugar Run | •561 | •560 | Township of Wolf.
| Approximately 75 feet downstream of Gregs Run Road (Township Route 270) | •575 | •574
Mill Creek No. 2 | Approximately 150 feet upstream of State Route 87 | •544 | •543 | Township of Fairfield.
| Approximately 1,750 feet upstream of State Route 87 | •550 | •549
Township of Fairfield
Maps available for inspection at the Fairfield Township Office, 238 Fairfield Church Road, Montoursville, Pennsylvania.
Send comments to Mr. Robert Wein, Chairman of the Township of Fairfield Board of Supervisors, 141 Signal Hill Road, Montoursville, Pennsylvania 17754.
Township of Wolf
Maps available for inspection at the Wolf Township Office, 695 Route 405 Highway, Hughesville, Pennsylvania.
Send comments to Mr. Gene M. Cahn, Chairman of the Township of Wolf Board of Supervisors, 695 Route 405 Highway, Hughesville, Pennsylvania 17737.

(Catalog of Federal Domestic Assistance No. 83.100, “Flood Insurance.”)
Dated: November 18, 2003.
Anthony S. Lowe,
Mitigation Division Director, Emergency Preparedness and Response Directorate.

[FR Doc. 03-29795 Filed 11-28-03; 8:45 am]

BILLING CODE 9110-12-P